DEPARTMENT OF LABOR

Employment and Training Administration

Notice of Funding Opportunity and Solicitation for Grant Applications (SGA) for the Trade Adjustment Assistance Community College and Career Training Grants Program

AGENCY: Employment and Training Administration, Labor.

ACTION: Notice of Solicitation for Grant Applications (SGA).

Funding Opportunity Number: SGA/DFA PY 11-08.

SUMMARY: The U.S. Department of Labor (the Department) announces the availability of up to $500 million in grant funds to be awarded under the Trade Adjustment Assistance Community College and Career Training (TAACCCT) grants program. The TAACCCT grants program provides eligible institutions of higher education, as defined in section 102 of the Higher Education Act of 1965 (20 U.S.C. 1002), with funds to expand and improve their ability to deliver education and career training programs that can be completed in two years or less, and are suited for workers who are eligible for training under the Trade Adjustment Assistance (TAA) for Workers Program (“TAA-eligible workers”) of the Trade Act of 1974 (as amended) 19 U.S.C. 2271-2323, as well as other adults. Eligible institutions may be located in the 50 States, the District of Columbia, Puerto Rico or the U.S. territories; however, the competitiveness of institutions in the U.S. territories under this SGA may be impacted by their limited opportunity to serve TAA-eligible workers.

The Department intends to fund multi-year grants to eligible institutions for either developing new education and career training program strategies or for replicating existing evidence-based design, development, and/or delivery strategies for such programs.

In accordance with the TAACCCT requirement that each state receive at least 0.5 percent of the approximately $500 million total amount of funds available under this SGA, the Department intends to fund grants of $2.5 to $3.0 million to applicants from each State, the District of Columbia, and Puerto Rico. In addition to grants of $2.5 to $3.0 million to individual applicants, the Department intends to fund grants of $5 million to $15 million to consortium applicants that propose programs that will impact TAA-eligible workers and other adults across a state, region or regions, industry sector or cluster of related industries. Eligible institutions that received individual grants or were the “lead institution” under the Solicitation for Grant Applications for TAACCCT Grants Program Funding Opportunity Number: SGA/DFA PY 10-03, dated January 20, 2011, are not eligible to apply for grants under this SGA, however, may serve as member institutions in a consortium application under this SGA.

The complete SGA and any subsequent SGA amendments, in connection with this solicitation are described in further detail on ETA's Web site at http://www.doleta.gov/grants/ or on http://www.grants.gov. The Web sites provide application information, eligibility requirements, review and selection procedures and other program requirements governing this solicitation.

DATES: The closing date for receipt of applications is May 24, 2012.

FOR FURTHER INFORMATION CONTACT: Melissa Abdullah, 200 Constitution Avenue NW., Room N-4716, Washington, DC 20210; Telephone: 202-693-3346.

Signed February 16, 2012 in Washington, DC.
Donna Kelly,
Grant Officer, Employment and Training Administration.

[FR Doc. 2012-4258 Filed 2-24-12; 8:45 am]

BILLING CODE 4510-FN-P